DEPARTMENT OF ENERGY

Federal Energy Regulatory Commission

Combined Notice of Filings #1

Take notice that the Commission received the following electric corporate filings:

Docket Numbers: EC11-92-000.

Applicants: Magnolia Energy L.P.

Description: Application for Order Authorizing the Disposition of Jurisdictional Facilities under section 203 of the Federal Power Act, Request for Waivers, Expedited Action and Shortened Comment Period.

Filed Date: 07/11/2011.

Accession Number: 20110711-5217.

Comment Date: 5 p.m. Eastern Time on Monday, August 01, 2011.

Docket Numbers: EC11-93-000.

Applicants: Emera Incorporated, Algonquin Power & Utilities Corp.

Description: section 203 Application of Emera Incorporated and Algonquin Power & Utilities Corp.

Filed Date: 07/12/2011.

Accession Number: 20110712-5100.

Comment Date: 5 p.m. Eastern Time on Tuesday, August 02, 2011.

Take notice that the Commission received the following electric rate filings:

Docket Numbers: ER10-2984-001.

Applicants: Merrill Lynch Commodities, Inc.

Description: Notice of Non-Material Change in Status of Merrill Lynch Commodities, Inc.

Filed Date: 07/11/2011.

Accession Number: 20110711-5211.

Comment Date: 5 p.m. Eastern Time on Monday, August 01, 2011.

Docket Numbers: ER11-3326-002.

Applicants: Midwest Independent Transmission System Operator, Inc.

Description: Midwest Independent Transmission System Operator, Inc. submits tariff filing per 35: G931 GIA Compliance to be effective 4/9/2011.

Filed Date: 07/11/2011.

Accession Number: 20110711-5127.

Comment Date: 5 p.m. Eastern Time on Monday, August 01, 2011.

Docket Numbers: ER11-3327-002.

Applicants: Midwest Independent Transmission System Operator, Inc.

Description: Midwest Independent Transmission System Operator, Inc. submits tariff filing per 35: G996 GIA Compliance to be effective 4/9/2011.

Filed Date: 07/11/2011.

Accession Number: 20110711-5130.

Comment Date: 5 p.m. Eastern Time on Monday, August 01, 2011.

Docket Numbers: ER11-3330-002.

Applicants: Midwest Independent Transmission System Operator, Inc.

Description: Midwest Independent Transmission System Operator, Inc. submits tariff filing per 35: G931-G996-H100 MPFCA Compliance to be effective 4/12/2011.

Filed Date: 07/11/2011.

Accession Number: 20110711-5133.

Comment Date: 5 p.m. Eastern Time on Monday, August 01, 2011.

Docket Numbers: ER11-3333-000.

Applicants: NV Energy, Inc.

Description: NV Energy, Inc. submits tariff filing per 35.19a(b): Service Agreement No. 11-00036 FERC Refund Report to be effective N/A.

Filed Date: 07/07/2011.

Accession Number: 20110707-5134.

Comment Date: 5 p.m. Eastern Time on Thursday, July 28, 2011.

Docket Numbers: ER11-4026-000.

Applicants: Eel River Power LLC.

Description: Eel River Power LLC submits tariff filing per 35.13(a)(2)(iii: Notice of Succession to be effective 9/9/2011.

Filed Date: 07/11/2011.

Accession Number: 20110711-5091.

Comment Date: 5 p.m. Eastern Time on Monday, August 01, 2011.

Docket Numbers: ER11-4027-000.

Applicants: James River Genco, LLC.

Description: James River Genco, LLC submits tariff filing per 35.13(a)(2)(iii: James River Genco, LLC Succesion to be effective 7/12/2011.

Filed Date: 07/11/2011.

Accession Number: 20110711-5106.

Comment Date: 5 p.m. Eastern Time on Monday, August 01, 2011.

Docket Numbers: ER11-4028-000.

Applicants: Portsmouth Genco, LLC.

Description: Portsmouth Genco, LLC submits tariff filing per 35.13(a)(2)(iii: Portsmouth Genco, LLC Succession to be effective 7/12/2011.

Filed Date: 07/11/2011.

Accession Number: 20110711-5108.

Comment Date: 5 p.m. Eastern Time on Monday, August 01, 2011.

Docket Numbers: ER11-4029-000.

Applicants: Vermont Wind, LLC.

Description: Vermont Wind, LLC submits tariff filing per 35.12: Electric Rate Schedule No. 1 to be effective 8/1/2011.

Filed Date: 07/11/2011.

Accession Number: 20110711-5126.

Comment Date: 5 p.m. Eastern Time on Monday, August 01, 2011.

Docket Numbers: ER11-4030-000.

Applicants: PPL EnergyPlus, LLC.

Description: PPL EnergyPlus, LLC submits tariff filing per 35.15: Cancellation of July 1, 2011 Filing to be effective 7/11/2011.

Filed Date: 07/11/2011.

Accession Number: 20110711-5151.

Comment Date: 5 p.m. Eastern Time on Monday, August 01, 2011.

Docket Numbers: ER11-4031-000.

Applicants: Duke Energy Ohio, Inc.

Description: Notice of Cancellation of Duke Energy Ohio, Inc.

Filed Date: 07/11/2011.

Accession Number: 20110711-5201.

Comment Date: 5 p.m. Eastern Time on Monday, August 01, 2011.

Docket Numbers: ER11-4032-000.

Applicants: PPL EnergyPlus, LLC.

Description: PPL EnergyPlus, LLC submits tariff filing per 35.13(a)(2)(iii: Transmission Reassignment Tariff to be Effective March 1, 2010 to be effective 9/30/2010.

Filed Date: 07/12/2011.

Accession Number: 20110712-5064.

Comment Date: 5 p.m. Eastern Time on Tuesday, August 02, 2011.

Docket Numbers: ER11-4033-000.

Applicants: PacifiCorp.

Description: PacifiCorp submits tariff filing per 35.13(a)(2)(iii: Bountiful Interconnection Agreement (Parrish Substation) to be effective 9/11/2011.

Filed Date: 07/12/2011.

Accession Number: 20110712-5083.

Comment Date: 5 p.m. Eastern Time on Tuesday, August 02, 2011.

Docket Numbers: ER11-4034-000.

Applicants: Southern California Edison Company.

Description: Southern California Edison Company submits tariff filing per 35.13(a)(2)(iii: SGIA WDT SERV AG SCE-GBU 13277 San Bernardino Ave Fontana Roof Top Solar Project to be effective 7/13/2011.

Filed Date: 07/12/2011.

Accession Number: 20110712-5084.

Comment Date: 5 p.m. Eastern Time on Tuesday, August 02, 2011.

Docket Numbers: ER11-4035-000.

Applicants: PJM Interconnection, LLC.

Description: PJM Interconnection, LLC submits tariff filing per 35.15: Notice of Cancellation of Service Agreement No. 2780 in Docket No. ER11-3001-000 to be effective 6/9/2011.

Filed Date: 07/12/2011.

Accession Number: 20110712-5099.

Comment Date: 5 p.m. Eastern Time on Tuesday, August 02, 2011.

Docket Numbers: ER11-4036-000.

Applicants: PacifiCorp.

Description: Cancellation of PacifiCorp Rate Schedule FERC No. 335, Operating Agreement between PacifiCorp and Bountiful City.

Filed Date: 07/12/2011.

Accession Number: 20110712-5103.

Comment Date: 5 p.m. Eastern Time on Tuesday, August 02, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Dated: July 12, 2011.
Nathaniel J. Davis, Sr.,
Deputy Secretary.

[FR Doc. 2011-18019 Filed 7-18-11; 8:45 am]

BILLING CODE 6717-01-P